DEPARTMENT OF COMMERCE

International Trade Administration

[A-570-932]

Certain Steel Threaded Rod From the People's Republic of China: Extension of Preliminary Results of Administrative Review

AGENCY: Import Administration, International Trade Administration, Department of Commerce.

SUMMARY: The Department of Commerce (“Department”) is extending the time limit for the preliminary results of the administrative review of certain steel threaded rod from the People's Republic of China (“PRC”). The review covers the period April 1, 2010, through March 31, 2011.

DATES: Effective Date: March 29, 2012.

FOR FURTHER INFORMATION CONTACT: Tim Lord, AD/CVD Operations, Office 9, Import Administration, International Trade Administration, U.S. Department of Commerce, 14th Street and Constitution Avenue NW., Washington, DC 20230; telephone (202) 482-7425.

Background

On May 27, 2011, the Department published in the Federal Register a notice of initiation of the administrative review of the antidumping duty order on steel threaded rod from the PRC.¹ On December 12, 2011, the Department extended the deadline for the preliminary results of this review to March 30, 2012.²

¹ See Initiation of Antidumping and Countervailing Duty Administrative Reviews, 76 FR 30912 (May 27, 2011).

² See Certain Steel Threaded Rod From the People's Republic of China: Extension of Time Limits for the Preliminary Results of Antidumping Duty Administrative Review, 76 FR 77205 (December 12, 2011).

Statutory Time Limits

In antidumping duty administrative reviews, section 751(a)(3)(A) of the Tariff Act of 1930, as amended (the “Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this administrative review within the original time limit because the Department requires additional time to analyze questionnaire responses and to evaluate surrogate value submissions.

Therefore, the Department is extending the time limit for completion of the preliminary results of the administrative review by 30 days. The preliminary results will now be due no later than April 29, 2012. As that day falls on a Sunday, the preliminary results are due no later than April 30, 2012.³ The final results continue to be due 120 days after the publication of the preliminary results.

³ See Notice of Clarification: Application of “Next Business Day” Rule for Administrative Determination Deadlines as Amended, 70 FR 24533 (May 10, 2005).

We are issuing and publishing this notice in accordance with sections 751(a)(3)(A) and 777(i) of the Act.

Dated: March 23, 2012.
Christian Marsh,
Deputy Assistant Secretary for Antidumping and Countervailing Duty Operations.

[FR Doc. 2012-7595 Filed 3-28-12; 8:45 am]

BILLING CODE 3510-DS-P